DEPARTMENT OF TRANSPORTATION

Federal Aviation Administration

Notice of Passenger Facility Charge (PFC) Approvals and Disapprovals.

AGENCY: Federal Aviation Administration (FAA), DOT.

ACTION: Monthly Notice of PFC Approvals and Disapprovals. In April 2000, there were five applications approved. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

PUBLIC AGENCY: City of Des Moines, Iowa.

APPLICATION NUMBER: 00-05-C-00-DSM.

APPLICATION TYPE: Impose and use a PFC.

PFC LEVEL: $3.00.

TOTAL PFC REVENUE APPROVED IN THIS DECISION: $1,150,000.

EARLIEST CHARGE EFFECTIVE DATE: May 1, 2006.

ESTIMATED CHARGE EXPIRATION DATE: November 1, 2006.

CLASS OF AIR CARRIERS NOT REQUIRED TO COLLECT PFC'S:

Part 135 air taxi/commercial operators.

DETERMINATION: Approved. Based on information submitted in the public agency's application, the FAA has determined that the proposed class accounts for less than 1 percent of the total annual enplanements at Des Moines International Airport.

BRIEF DESCRIPTION OF PROJECTS APPROVED FOR COLLECTION AND USE:

South passenger apron expansion and rehabilitation.

Terminal elevator—C concourse.

DECISION DATE: April 13, 2000.

FOR FURTHER INFORMATION CONTACT: Lorna Sandridge, Central region Airports Division, (816) 329-2641.

PUBLIC AGENCY: Melbourne Airport Authority, Melbourne, Florida.

APPLICATION NUMBER: 00-04-C-00-MLB.

APPLICATION TYPE: Impose and use a PFC.

PFC LEVEL: $3.00.

TOTAL PFC REVENUE APPROVED IN THIS DECISION: $592,944.

EARLIEST CHARGE EFFECTIVE DATE: July 1, 2000.

ESTIMATED CHARGE EXPIRATION DATE: September 1, 2001.

CLASS OF AIR CARRIERS NOT REQUIRED TO COLLECT PFC'S:

Air taxi/commercial operators.

DETERMINATION: Approved. Based on information submitted in the public agency's application, the FAA has determined that the proposed class accounts for less than 1 percent of the total annual enplanements at Melbourne International Airport.

BRIEF DESCRIPTION OF PROJECTS APPROVED FOR COLLECTION AND USE:

Improve and renovate terminal building, phase 1—reroofing.

Acquire security improvements and police vehicle.

Runway 9L safety area wetland mitigation phase 2.

Improve and renovate terminal building, phase 2—wall and skylight repair.

Acquire Airport News and Training Network system.

Acquire aircraft rescue and firefighting vehicle and three proximity suits.

Improve and renovate terminal building, phase 3—restroom renovation.

Acquire aircraft loading bridge.

DECISION DATE: April 19, 2000.

FOR FURTHER INFORMATION CONTACT: Armondo L. Rovira, Orlando Airports District Office, (407) 812-6331, ext. 31.

PUBLIC AGENCY: Greater Orlando Aviation Authority, Orlando, Florida.

APPLICATION NUMBER: 00-07-C-00-MCO.

APPLICATION TYPE: Impose and use a PFC.

PCF LEVEL: $3.00.

TOTAL PCF REVENUE APPROVED IN THIS DECISION: $174,364,294.

EARLIEST CHARGE EFFECTIVE DATE: June 1, 2003.

ESTIMATED CHARGE EXPIRATION DATE: April 1, 2008.

CLASS OF AIR CARRIERS NOT REQUIRED TO COLLECT PFC'S:

None.

BRIEF DESCRIPTION OF PROJECTS APPROVED FOR COLLECTION AT ORLANDO INTERNATIONAL AIRPORT (MCO) AND USE AT MCO:

Mid crossfield taxiway bridges expansion—construction.

Heintzelman Boulevard construction.

South access road widening—construction.

South terminal complex, phase I: site grading and drainage—design and construction.

South terminal complex, design.

Fourth runway.

Taxiway system for the fourth runway.

BRIEF DESCRIPTION OF PROJECTS APPROVED FOR COLLECTION AT MCO AND USE AT ORLANDO EXECUTIVE AIRPORT:

Drainage improvements, design and construction.

Runway 7/25 high speed exit taxiways and holding bay 7 construction.

Runway 7/25 taxiway stubouts and holding bays 31 and 25, design.

DECISION DATE: April 19, 2000.

FOR FURTHER INFORMATION CONTACT: Pablo G. Auffant, Orlando Airports District Office, (407) 812-6331, ext. 30.

PUBLIC AGENCY: International Falls-Koochiching County Airport Commission, International Falls, Minnesota.

APPLICATION NUMBER: 00-03-C-00-INL.

APPLICATION TYPE: Impose and use a PFC.

PCF LEVEL: $3.00.

TOTAL PFC REVENUE APPROVED IN THIS DECISION: $316,992.

EARLIEST CHARGE EFFECTIVE DATE: July 1, 2000.

ESTIMATED CHARGE EXPIRATION DATE: August 1, 2006.

CLASS OF AIR CARRIERS NOT REQUIRED TO COLLECT PFC'S:

Part 135 air taxi.

DETERMINATION: Approved. Based on information submitted in the public agency's application, the FAA has determined that the proposed class accounts for less than 1 percent of the total annual enplanements at Falls International Airport.

BRIEF DESCRIPTION OF PROJECTS APPROVED FOR COLLECTION AND USE:

Terminal building modifications.

Acquire snow removal equipment.

Acquire aircraft rescue and firefighting vehicle.

Install high intensity runway lights.

Runway 13/31 shoulder paving.

Replace rotating beacon with tower and runway end identifier lights.

Acquire snow removal equipment.

Segmented circle design.

Engineering for rehabilitation of heating, ventilation, and air conditioning and baggage claim entrance canopy.

Safety fencing engineering study.

Environmental assessment.

Construct baggage claim entrance canopy.

PFC administration.

DECISION DATE: April 20, 2000.

FOR FURTHER INFORMATION CONTACT: Sandra E. DePottey, Minneapolis Airports District Office, (612) 713-4363.

PUBLIC AGENCY: City of Minot, North Dakota.

APPLICATION NUMBER: 00-05-U-00-MOT.

APPLICATION TYPE: Use PFC revenue.

PFC LEVEL: $3.00.

TOTAL PFC REVENUE TO BE USED IN THIS DECISION: $203,841.

CHARGE EFFECTIVE DATE: March 1, 1999.

ESTIMATED CHARGE EXPIRATION DATE: February 1, 2004.

CLASS OF AIR CARRIERS NOT REQUIRED TO COLLECT PFC'S: No change from previous decision.

BRIEF DESCRIPTION OF PROJECT APPROVED FOR USE: Runway 8/26 restoration and extension.

DECISION DATE: April 21, 2000.

FOR FURTHER INFORMATION CONTACT: Irene R. Porter, Bismarck Airports District Office, (701) 250-4385.

Amendments to PFC Approvals
Amendment No. City, State | Amendment approved date | Original approved net PFC revenue | Amended approved net PFC revenue | Original estimated charge exp. date | Amended estimated charge exp. date
92-01-C-03-GJT, Grand Junction, CO | 03/17/00 | $1,812,000 | $1,794,117 | 03/01/04 | 04/01/03
96-02-U-02-GJT, Grand Junction, CO | 03/17/00 | NA | NA | 03/01/04 | 04/01/03
97-03-C-01-GJT, Grand Junction, CO | 03/17/00 | $2,157,000 | $1,932,000 | 03/01/04 | 04/01/03
92-01-C-07-SJC, San Jose, CA | 03/30/00 | NA | NA | 09/01/03 | 09/01/03
96-01-I-02-BTV, Burlington, VT | 04/14/00 | $12,476,233 | $22,966,283 | 03/01/06 | 12/01/10
96-02-C-01-BTV, Burlington, VT | 04/14/00 | $40,000 | $40,000 | 03/01/06 | 12/01/10
98-04-C-01-CLM, Port Angeles, WA | 04/17/00 | $118,572 | $122,650 | 11/01/01 | 11/01/00
98-02-C-02-IAD, London, VA | 04/25/00 | $34,919,777 | $52,324,581 | 05/01/10 | 04/01/11
98-03-C-01-DCA, Arlington, VA | 04/25/00 | $23,563,086 | $46,823,287 | 02/01/02 | 05/01/03

Issued in Washington, DC on May 4, 2000.
Eric Gabler,
Manager, Passenger Facility Charge Branch.

[FR Doc. 00-12144 Filed 5-12-00; 8:45 am]

BILLING CODE 4910-13-M